DEPARTMENT OF COMMERCE

International Trade Administration

[A-580-889]

Dioctyl Terephthalate From the Republic of Korea: Final Results of Antidumping Duty Changed Circumstances Review

AGENCY: Enforcement and Compliance, International Trade Administration, Department of Commerce.

SUMMARY: On July 14, 2023, the U.S. Department of Commerce (Commerce) published the notice of initiation and preliminary results of the changed circumstances review (CCR) of the antidumping duty (AD) order on dioctyl terephthalate (DOTP) from the Republic of Korea (Korea). Commerce preliminarily determined that Aekyung Chemical Co., Ltd. (AKC) is the successor-in-interest to Aekyung Petrochemical Co., Ltd. (AKP) and, as a result, should be accorded the same AD cash deposit rate as AKP with respect to subject merchandise. For these final results, Commerce continues to find that AKC is the successor-in-interest to AKP and is entitled to the same cash deposit rate as AKP under the AD order on DOTP from Korea.

DATES: Applicable September 18, 2023.

FOR FURTHER INFORMATION CONTACT: Laurel LaCivita, AD/CVD Operations, Office III, Enforcement and Compliance, International Trade Administration, Department of Commerce, 1401 Constitution Avenue NW, Washington, DC 20230; telephone: (202) 482-4243.

SUPPLEMENTARY INFORMATION:

Background

On July 14, 2023, Commerce published the initiation and preliminary results ¹ of this CCR, in which Commerce preliminarily found that AKC is the successor-in-interest to AKP and, as such, that AKC is entitled to AKP's AD cash deposit rate with respect to entries of subject merchandise.² In the Initiation and Preliminary Results, we provided all interested parties with an opportunity to comment on our determination and to request a public hearing. AKC submitted a letter in lieu of a case brief on July 28, 2023,³ agreeing with Commerce's conclusion that AKC's DOTP operations are materially similar to those of AKP under Commerce's successor-in-interest criteria; ⁴ that AKC provided sufficient information to support its request for a CCR such that combining the notice of initiation and the notice of preliminary results was warranted; ⁵ that AKC provided sufficient information for Commerce to determine that AKC is the successor-in-interest to AKP; ⁶ and that the facts on the record of this proceeding are clear and unambiguous.⁷ No other party submitted a case or rebuttal brief, requested a hearing, or otherwise provided comments on the Initiation and Preliminary Results.

¹ See Dioctyl Terephthalate from the Republic of Korea: Notice of Initiation and Preliminary Results of Antidumping Duty Changed Circumstances Review, 88 FR 45140 (July 14, 2023) (Initiation and Preliminary Results), and accompanying Memorandum, “Decision Memorandum for Initiation and Preliminary Results of Changed Circumstances Review: Dioctyl Terephthalate from the Republic of Korea,” dated July 7, 2023 (PDM).

² Id.

³ See AKC's Letter, “Aekyung Chemical Co., Ltd.'s Letter in Lieu of Case Brief,” dated July 28, 2023 (AKC's Letter in Lieu of Case Brief).

⁴ Id. at 2 (citing Initiation and Preliminary Results PDM at 4-7).

⁵ Id. (citing Initiation and Preliminary Results PDM at 3).

⁶ Id.

⁷ See AKC's Letter in Lieu of Case Brief at 2.

Scope of the Order ⁸

⁸ See Dioctyl Terephthalate from the Republic of Korea: Antidumping Duty Order, 82 FR 39409 (August 18, 2017) (Order).

The merchandise covered by this Order is dioctyl terephthalate (DOTP), regardless of form. DOTP that has been blended with other products is included within this scope when such blends include constituent parts that have not been chemically reacted with each other to produce a different product. For such blends, only the DOTP component of the mixture is covered by the scope of this Order.

DOTP that is otherwise subject to this Order is not excluded when commingled with DOTP from sources not subject to this Order. Commingled refers to the mixing of subject and non-subject DOTP. Only the subject component of such commingled products is covered by the scope of the Order.

DOTP has the general chemical formulation C6H4(C8H17COO)2 and a chemical name of “bis (2-ethylhexyl) terephthalate” and has a Chemical Abstract Service (CAS) registry number of 6422-86-2. Regardless of the label, all DOTP is covered by this Order.

Subject merchandise is currently classified under subheading 2917.39.2000 of the Harmonized Tariff Schedule of the United States (HTSUS). Subject merchandise may also enter under subheadings 2917.39.7000 or 3812.20.1000 of the HTSUS. While the CAS registry number and HTSUS subheadings are provided for convenience and customs purposes, the written description of the scope of this Order is dispositive.

Final Results of Changed Circumstances Review

Having received no comments from interested parties and finding no information or evidence on the record that calls into question the preliminary results, we continue to find that AKC is the successor-in-interest to AKP and, that AKC is entitled to AKP's AD cash deposit rate with respect to entries of subject merchandise for the reasons stated in the Initiation and Preliminary Results.⁹ As there are no changes from the Initiation and Preliminary Results, there is no decision memorandum accompanying this notice and the determination in the Initiation and Preliminary Results, is hereby adopted as the final results of this CCR.

⁹ See Initiation and Preliminary Results.

As a result of this determination and consistent with established practice, we find that AKC should receive the AD cash deposit rate previously assigned to AKP. Consequently, Commerce will instruct U.S. Customs and Border Protection to suspend liquidation of all shipments of subject merchandise produced and/or exported by AKC and entered, or withdrawn from warehouse, for consumption on or after the publication date of this notice in the Federal Register at the AD cash deposit rate in effect for AKP. This cash deposit requirement shall remain in effect until further notice.

Administrative Protective Order

This notice serves as a final reminder to parties subject to administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

This notice is published in accordance with sections 751(b)(1) and 777(i) of the Tariff Act of 1930, as amended, and 19 CFR 351.216(e).

Dated: August 28, 2023.
Lisa W. Wang,
Assistant Secretary for Enforcement and Compliance.

[FR Doc. 2023-20127 Filed 9-15-23; 8:45 am]

BILLING CODE 3510-DS-P